ENVIRONMENTAL PROTECTION AGENCY

[FRL-7560-8]

EPA Public Meeting: Market Enhancement Opportunities for Water-Efficient Products; Notice of Public Meeting

AGENCY: Environmental Protection Agency (EPA).

ACTION: Notice.

SUMMARY: The Environmental Protection Agency is hosting a one-day public meeting to discuss market enhancement opportunities for water-efficient products. EPA's goal is to bring together stakeholders from Federal, state and local governments; manufacturers; retailers; environmental groups; and other interested parties to exchange information and views on promoting water-efficient products in the marketplace.

The meeting will consist of several panel discussions, and is open to the public. The audience will have an opportunity to ask questions and provide comments at the conclusion of the meeting.

DATES: The meeting will begin at 9 a.m. on October 9, 2003.

ADDRESSES: The meeting will be held at the Hotel Washington, 15th and Pennsylvania Avenue, NW, Washington, DC 20004.

FOR FURTHER INFORMATION CONTACT: For more information on this meeting, please see EPA's Water Efficiency Web page at www.epa.gov/owm/water-efficiency/index.htm. You may also register online and request special accommodations at http://www.ergweb.com/projects/water/register.htm, or by contacting ERG, Inc. by e-mail (meetings@erg.com), phone (781-674-7374), fax (781-674-2906), or in writing (ERG, Conference Registration, 110 Hartwell Avenue, Lexington, MA 02421-3136). Seating is limited, therefore, please register or request special accommodations no later than October 2, 2003.

Dated: September 11, 2003.
James A. Hanlon,
Director, Office of Wastewater Management.

[FR Doc. 03-23851 Filed 9-17-03; 8:45 am]

BILLING CODE 6560-50-P